DEPARTMENT OF THE INTERIOR

Bureau of Land Management

[LLWYP00000-L13200000-EL0000; WYW163340, WYW177903]

Notice of Availability of the Record of Decision for the Environmental Impact Statement for the West Antelope II Coal Lease-by-Application, Wyoming

AGENCY: Bureau of Land Management, Interior.

ACTION: Notice of Availability of the Record of Decision.

SUMMARY: In accordance with the National Environmental Policy Act of 1969, the Bureau of Land Management (BLM) announces the availability of the Record of Decision (ROD) for the West Antelope II Coal Lease by Application (LBA) Environmental Impact Statement (EIS).

ADDRESSES: The document is available electronically on the following Web site: http://www.blm.gov/wy/st/en/info/NEPA/cfodocs/West_Antelope_II.html. Paper copies of the ROD are also available at the following BLM office locations:

• Bureau of Land Management, Wyoming State Office, 5353 Yellowstone Road, Cheyenne, Wyoming; and

• Bureau of Land Management, Wyoming High Plains District Office, 2987 Prospector Drive, Casper, Wyoming.

FOR FURTHER INFORMATION CONTACT: Mr. Tyson Sackett, Acting Wyoming Coal Coordinator, at 307-775-6487, or Ms. Mavis Love, Land Law Examiner, at 307-775-6258. Both Mr. Sackett's and Ms. Love's offices are located at the BLM Wyoming State Office, 5353 Yellowstone Road, Cheyenne, Wyoming 82009.

SUPPLEMENTARY INFORMATION: The ROD covered by this Notice of Availability is for the West Antelope II Coal Tract and addresses leasing Federal coal in Campbell and Converse Counties, Wyoming, administered by the BLM Wyoming High Plains District Office. The BLM approves Alternative 2, which is the preferred alternative of the West Antelope II Coal Lease by Application Final EIS. Under Alternative 2, the West Antelope II Coal LBA area, as modified by the BLM, will be divided into two separate LBA tracts referred to as the West Antelope II North Tract and the West Antelope II South Tract. The West Antelope II North Tract (WYW163340), as modified by the BLM, includes 2,837.63 acres, more or less, and contains an estimated 350.2 million tons of mineable coal. The West Antelope II South Tract (WYW177903), as modified by the BLM, includes 1,908.60 acres, more or less, and contains an estimated 56.3 million tons of mineable coal. Two competitive coal lease sales will be announced in the Federal Register at a later date.

This decision is subject to appeal to the Interior Board of Land Appeals (IBLA), as provided in 43 CFR part 4, within thirty (30) days from the date of publication of this NOA in the Federal Register. The ROD contains instructions for filing an appeal with the IBLA.

Larry Claypool,
Acting State Director.

[FR Doc. 2010-7173 Filed 3-31-10; 8:45 am]

BILLING CODE 4310-22-P